DEPARTMENT OF ENERGY

Federal Energy Regulatory Commission

[Project No. 3211-010; Project No. 2701-061]

Power Authority of the State of New York; Erie Boulevard Hydropower, L.P.; Notice of Intent To Prepare an Environmental Assessment

On July 31, 2020, the Power Authority of the State of New York (NYPA) filed an application for a new major license for the 9-megawatt Hinckley (Gregory B. Jarvis) Hydroelectric Project (Hinckley-Jarvis Project; FERC No. 3211). The Hinckley-Jarvis Project is located on West Canada Creek near the Hamlet of Hinckley in the counties of Oneida and Herkimer, New York. On February 26, 2021, Erie Boulevard Hydropower, L.P. (Erie) filed an application for a new major license for the 39.75-megawatt West Canada Creek Hydroelectric Project (West Canada Creek Project; FERC No. 2701). The West Canada Creek Project is also located on West Canada Creek, downstream of the Hinckley-Jarvis Project, in the counties of Oneida and Herkimer, New York. No federal or tribal lands occur within or adjacent to either project's boundary.

In accordance with the Commission's regulations, on January 12, 2022, Commission staff issued separate notices that both the Hinckley-Jarvis and West Canada Creek projects were ready for environmental analysis (REA Notice).¹ Based on the information in the projects' records, including comments filed on the REA Notices, staff does not anticipate that licensing the projects would constitute a major federal action significantly affecting the quality of the human environment. However, because the Hinckley-Jarvis and West Canada Creek projects are located adjacent to each other in the same river basin and include similar issues, it is the Commission's intent to continue to process these relicense applications concurrently. Therefore, staff intends to prepare a draft and final multi-project Environmental Assessment (EA) on the applications to relicense the Hinckley-Jarvis and West Canada Creek projects.

¹ On March 1, 2022, NYPA requested that the deadline for filing motions to intervene and protests, comments, recommendations, preliminary terms and conditions, and preliminary fishway prescriptions be extended until June 11, 2022, in order to allow parties to work on a settlement agreement. On March 3, 2022, Erie requested a similar extension. Commission staff granted both requests for extension in letters issued on March 10, 2022.

The EA will be issued and circulated for review by all interested parties. All comments filed on the EA will be analyzed by staff and considered in the Commission's final licensing decision.

The applications will be processed according to the following schedule. Revisions to the schedule may be made as appropriate.

Milestone | Target date
Commission issues draft EA | December 2022.
Comments due on draft EA | January 2023.
Commission issues final EA | June 2023.²

Any questions regarding this notice may be directed to Emily Carter at (202) 502-6512 or emily.carter@ferc.gov.

² The Council on Environmental Quality's (CEQ) regulations under 40 CFR 1501.10(b)(1) require that EAs be completed within 1 year of the federal action agency's decision to prepare an EA. This notice establishes the Commission's intent to prepare a draft and final EA for the Hinckley-Jarvis and West Canada Creek projects. Therefore, in accordance with CEQ's regulations, the final EA must be issued within 1 year of the issuance date of this notice.

Dated: June 28, 2022.
Kimberly D. Bose,
Secretary.

[FR Doc. 2022-14109 Filed 6-30-22; 8:45 am]

BILLING CODE 6717-01-P